DEPARTMENT OF JUSTICE

Drug Enforcement Administration

Minakshi B. Deshmukh, M.D., Revocation of Registration, Denial of Application

On July 11, 2002, the Deputy Assistant Administrator, Office of Diversion Control, Drug Enforcement Administration (DEA), issued an Order to Show Cause to Minakshi B. Deshmukh, M.D. (Dr. Deshmukh) of Midland, Michigan, notifying her of an opportunity to show cause as to why DEA should not revoke her DEA Certificate of Registration, BD4361692 pursuant to 21 U.S.C. 824(a)(3), and deny any pending applications for registration pursuant to 21 U.S.C. 823(f). The Order to Show cause alleged that Dr. Deshmukh was not authorized to handle controlled substances in the States of Michigan (where she has applied for a new DEA registration) or Ohio (the state in which she is currently registered). The Order to Show Cause also notified Dr. Deshmukh that should no request for a hearing be filed within 30 days, her hearing right would be deemed waived.

The Order to Show Cause was sent by certified mail to Deshmukh at a location in Midland, Michigan, and DEA received a signed receipt indicating that it was received on July 17, 2002. DEA has not received a request for hearing or any other reply from Dr. Deshmukh or anyone purporting to represent her in this matter.

Therefore, the Deputy Administrator, finding that (1) 30 days have passed since receipt of the Order to Show Cause, and (2) no request for a hearing have been received, concludes that Dr. Deshmukh is deemed to have waived her hearing right. After considering material from the investigative file in this matter, the Deputy Administrator now enters his final order without a hearing pursuant to 21 CFR 1301.43(d) and (e) and 1301.46.

The Deputy Administrator finds that Dr. Deshmukh currently holds DEA Certificate of Registration BD4361692, as a practitioner. Her current registered location is in Oregon, Ohio and that registration expires on June 30, 2004. Only June 5, 2001, Dr. Deshmukh submitted an application for a new DEA Certificate of Registration as a practitioner at a location in Midland, Michigan.

A review of the investigative file reveals that on June 5, 2001, the Michigan Board of Medicine (Michigan Board) entered an Order of Summary Suspension of Dr. Deshmukh's license to practice medicine in that state. Following the issuance of the above Order, and effective March 20, 2002, Mr. Deshmukh and the Michigan Board entered into a Consent Order. The terms of the Consent Order included the six-month suspension of Dr. Deshmukh's license to practice medicine, and as a condition of reinstatement, her agreement to submit to a psychological and psychiatric examination, as well as a neurological evaluation.

The investigative file also reveals that in response to the Michigan Board's June 2001 Order of Summary Suspension, and effective August 8, 2001, Dr. Deshmukh and the Ohio Medical Board entered into a Consent Agreement. Among the terms agreed to by the parties was the indefinite suspension of Dr. Deshmukh's medical license in that state.

There is no evidence in the record that Dr. Deshmukh's licenses to practice medicine in Michigan and Ohio have been reinstated. Therefore, the Deputy Administrator finds that since Dr. Deshmukh is not currently authorized to practice medicine in either jurisdiction, it is reasonable to infer that she is not authorized to handle controlled substances in those states.

DEA does not have statutory authority under the Controlled Substances Act to issue or maintain a registration if the applicant or registrant is without state authority to handle controlled substances in the state in which he conducts business. See 21 U.S.C. 802(21), 823(f) and 824(a)(3). This prerequisite has been consistently upheld. See Joseph Thomas Allevi M.D., 67 FR 35581 (2002); Carla Johnson, M.D., 66 FR 52939 (2001); Graham Travers Schuler, M.D., 65 FR 50570 (2000); Dominick A. Ricci, M.D., 58 FR 51104 (1993), Bobby Watts, M.D., 53 FR 11919 (1988).

Here, it is clear that Dr. Deshmukh is not licensed to handle controlled substances in Michigan and Ohio, the states in which she seeks registration and is currently registered with DEA, respectively. Therefore, she is not entitled to a DEA registration in those states.

Accordingly, the Deputy Administrator of the Drug Enforcement Administration, pursuant to the authority vested in him by 21 U.S. 823 and 824 and 28 CFR 0.100(b) and 0.104, hereby orders that DEA Certificate of Registration, BD4361692, issued to Minakshi B. Deshumukh, M.D., be, and it hereby is, revoked. The Deputy Administrator further orders that Dr. Deshmukh's pending application for DEA registration dated June 5, 2001, is denied. This order is effective January 23.

Dated: November 20, 2002.
John B. Brown, III
Deputy Administrator.

[FR Doc. 02-31208 Filed 12-10-02; 8:45 am]

BILLING CODE 4410-09-M